DEPARTMENT OF TRANSPORTATION

Federal Aviation Administration

Forty-Second Meeting, RTCA Special Committee 186 Automatic Dependent Surveillance-Broadcast (ADS-B)

AGENCY: Federal Aviation Administration (FAA), DOT.

ACTION: Notice of RTCA Special Committee 186 Automatic Dependent Surveillance-Broadcast (ADS-B) meeting.

SUMMARY: The FAA is issuing this notice to advise the public of a meeting of RTCA Special Committee 186 Automatic Dependent Surveillance-Broadcast (ADS-B).

DATES: The meeting will be held October 2-5, 2007, at 9 a.m. (Unless Otherwise noted).

ADDRESSES: The meeting will be held at RTCA, Inc., 1828 L Street, NW., Suite 805, Washington, DC 20036.

FOR FURTHER INFORMATION CONTACT: (1) RTCA Secretariat (Hal Moses), 1828 L Street, NW., Suite 805, Washington, DC 20036, (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186 meeting. The agenda will include:

• October 2:

• All Day, ASSAP Subgroup, MacIntosh-NBAA Room.

• All Day, CDTI Subgroup, Hilton-ATA Room.

• October 3:

• All Day—Working Group 1—Operations and Implementation, Surface Alerting. Activity, Colson Board Room.

• All Day, ASSAP Subgroup, MacIntosh-NBAA Room.

• All Day, CDTI Subgroup, Hilton-ATA Room.

• October 4:

• All Day—Working Group 1—Operations and Implementation, Surface Alerting Discussion, Colson Board Room.

• All Day, ASSAP Subgroup, MacIntosh-NBAA Room.

• All Day, CDTI Subgroup, Hilton-ATA Room.

• October 5:

• Working Groups May Meet After the Plenary Adjourns.

• Opening Plenary Session (Welcome and Introductory Remarks, review of meeting agenda).

• Review/Approval of the Forty-First Meeting Summary, RTCA Paper No. 219-07/SC186-252.

• Date, Place, and Time of Next Meeting.

• FAA Surveillance and Broadcast Services (SBS) Program—Status.

• Review proposed TORs for Working Groups.

• Working Group Reports.

• WG-1—Operations and Implementation.

• WG-2—TIS-B MASPS.

• WG-3—1090 MHz MOPS.

• WG-4—Applications Technical Requirements.

• WG-5—UAT MOPS.

• RFG—Requirements Focus Group.

Closing Plenary Session (New/Other Business, Review Actions Items/Work Program, Adjourn).

• Note:

• AD—Application Development.

• ASAS—Aircraft Surveillance Applications System.

• ASSAP—Airborne Surveillance & Separation Assurance Processing.

• CDTI—Cockpit Display of Traffic Information.

• MASPS—Minimum Aviation System Performance Standards.

• MOPS—Minimum Operational Performance Standards.

• NRA—Non-Radar Airspace.

• RFG—Requirements Focus Group.

• STP—Surveillance Transmit Processing.

Attendance is open to the interested public but limited to space availability. With the approval of the chairmen, members of the public may present oral statements at the meeting. Persons wishing to present statements or obtain information should contact the person listed in the `FOR FURTHER INFORMATION CONTACT' section. Members of the public may present a written statement to the committee at any time.

Issued in Washington, DC, on September 12, 2007.
Francisco Estrada C.,
RTCA Advisory Committee.

[FR Doc. 07-4725 Filed 9-25-07; 8:45 am]

BILLING CODE 4940-13-M